DEPARTMENT OF VETERANS AFFAIRS

[OMB Control No. 2900-0376]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed reinstatement, with change, of a previously approved collection for which approval has expired, and allow 60 days for public comment in response to the notice. This notice solicits comments on the information needed to maintain an up-to-date Agent Orange Registry.

DATES: Written comments and recommendations on the proposed collection of information should be received on or before July 17, 2000.

ADDRESSES: Submit written comments on the collection of information to Ann Bickoff, Veterans Health Administration (191A1), Department of Veterans Affairs, 810 Vermont Avenue, NW., Washington, DC 20420. Please refer to “OMB Control No. 2900-0376” in any correspondence.

FOR FURTHER INFORMATION CONTACT: Ann Bickoff at (202) 273-8310.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title and Form Number: Agent Orange Registry Code Sheet, VA Form 10-9009.

OMB Control Number: 2900-0376.

Type of Review: Reinstatement, with change, of a previously approved collection for which approval has expired.

Abstract: The Agent Orange Registry Code Sheet is used to obtain information from veterans during an interview with the examining physician and Agent Orange coordinator or other designated personnel. The information obtained is encoded onto the code sheet and entered into a computerized Agent Orange Registry. The registry provides a mechanism to catalogue prominent symptoms, reproductive health, diagnoses and enables VA to communicate with Agent Orange veterans through newsletters. The newsletter informs veterans of any increased health risks resulting from exposure to dioxin or other toxic agents, research finding or new compensation policies.

Affected Public: Individuals or Households.

Estimated Total Annual Burden: 1,833 hours.

Estimated Average Burden Per Respondent: 20 minutes.

Frequency of Response: On occasion.

Estimated Number of Respondents: 5,500.

Dated: April 27, 2000.
By direction of the Secretary.
Sandra McIntyre,
Management Analyst, Information Management Service.

[FR Doc. 00-12233 Filed 5-15-00; 8:45 am]

BILLING CODE 8320-01-P